DEPARTMENT OF THE INTERIOR

Office of Surface Mining Reclamation and Enforcement

Notice of Proposed Information Collection for 1029-0103

AGENCY: Office of Surface Mining Reclamation and Enforcement.

ACTION: Notice and request for comments.

SUMMARY: In compliance with the Paperwork Reduction Act of 1995, the Office of Surface Mining Reclamation and Enforcement (OSM) is announcing that the information collection request regarding noncoal reclamation, found at 30 CFR part 875, has been forwarded to the Office of Management and Budget (OMB) for renewal authority. The information collection request describes the nature of the information collection and the expected burden and cost.

DATES: OMB has up to 60 days to approve or disapprove the information collection but may respond after 30 days. Therefore, public comments should be submitted to OMB by September 15, 2003, in order to be assured of consideration.

FOR FURTHER INFORMATION CONTACT: To request a copy of the information collection request, explanatory information and related form, contact John A. Trelease at (202) 208-2783, or electronically at jtreleas@osmre.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities (see 5 CFR 1320.8 (d)). OSM has submitted a request to OMB to renew its approval of the collection of information for noncoal reclamation, found at 30 CFR part 875. OSM is requesting a 3-year term of approval for this information collection activity.

An agency may not conduct or sponsor, and a person is not required to respond to, a collection of information unless it displays a currently valid OMB control number. The OMB control number for this collection of information is listed in 30 CFR part 875, which is 1029-0103.

As required under 5 CFR 1320.8(dl), a Federal Register notice soliciting comments on these collections of information was published on May 2, 2003 (68 FR 23496). No comments were received. This notice provides the public with an additional 30 days in which to comment on the following information collection activity:

Title: Noncoal reclamation, 30 CFR part 875.

OMB Control Number: 1029-0103.

Summary: This part establishes procedures and requirements for State and Indian tribes to conduct noncoal reclamation using abandoned mine land funding. The information is needed to assure compliance with the Surface Mining Control and Reclamation Act of 1977.

Bureau Form Numbers: OSM-47, OSM-51.

Frequency of collection: Once.

Description of Respondents: State governments and Indian Tribes.

Total Annual Responses: 10.

Total Annual Burden Hours: 189.

Send comments on the need for the collection of information for the performance of the functions of the agency; the accuracy of the agency's burden estimates; ways to enhance the quality, utility and clarity of the information collection; and ways to minimize the information collection burden on respondents, such as use of automated means of collection of the information, to the following address. Please refer to the appropriate OMB control number in all correspondence.

ADDRESSES: Submit comments to the Office of Information and Regulatory Affairs, Office of Management and Budget, Attention: Department of Interior Desk Officer, by telefax at (202) 395-5806 or via e-mail to Ruth_Solomon@omb.eop.gov. Also, please send a copy of your comments to John A. Trelease, Office of Surface Mining Reclamation and Enforcement, 1951 Constitution Ave, NW., Room 210-SIB, Washington, DC 20240; or electronically to jtreleas@osmre.gov.

Dated: July 1, 2003.
Richard G. Bryson,
Chief, Division of Regulatory Support.

[FR Doc. 03-20917 Filed 8-14-03; 8:45 am]

BILLING CODE 4310-05-M